NATIONAL SCIENCE FOUNDATION

Proposal Review Panel for Computing and Communication Foundations; Notice of Meeting

In accordance with the Federal Advisory Committee Act (Pub. L. 92-463, as amended), the National Science Foundation (NSF) announces the following meeting:

Name and Committee Code: Proposal Review Panel for Computing and Communication Foundations—Science and Technology Centers—Integrative Partnerships Site Visit (#1192).

Date and Time: May 6, 2019; 7:00 p.m.-8:30 p.m., May 7, 2019; 8:00 a.m.-8:00 p.m., May 8, 2019; 8:00 a.m.-4:00 p.m.

Place: McGovern Institute for Brain Research, Massachusetts Institute of Technology (MIT), 43 Vassar St., Cambridge, MA 02139.

Type of Meeting: Part-Open.

Contact Person: Phillip Regalia, National Science Foundation, 2415 Eisenhower Avenue, Room W10207, Alexandria, VA 22314; Telephone: (703) 292-8910.

Purpose of Meeting: Site visit to assess the progress of the STC Award: 1231216 “A Center for Brains, Minds and Machines: The Science and the Technology of Intelligence”, and to provide advice and recommendations concerning further NSF support for the Center.

Agenda

MIT Review Site Visit

Monday, May 6, 2019

7:00 p.m. to 8:30 p.m.: Closed

Site Team and NSF Staff meets to discuss site visit materials, review process and charge

Tuesday, May 7, 2019

8:00 a.m. to 8:00 p.m.: Open

Presentations by Awardee Institution, faculty staff and students, to Site Team and NSF Staff; Discussions, question and answer sessions

Wednesday, May 8, 2019

8:00 a.m.-4:00 p.m.: Closed

Complete written site visit report with preliminary recommendations.

Reason for Closing: The work being reviewed during closed portions of the site review will include information of a proprietary or confidential nature, including technical information; financial data, such as salaries; and personal information concerning individuals associated with the project. These matters are exempt under 5 U.S.C. 552b(c), (4) and (6) of the Government in the Sunshine Act.

Dated: March 26, 2019.
Crystal Robinson,
Committee Management Officer.

[FR Doc. 2019-06077 Filed 3-28-19; 8:45 am]

BILLING CODE 7555-01-P